DEPARTMENT OF TRANSPORTATION

Federal Transit Administration

FTA Fiscal year 2006 Apportionments, Allocations and Program Information; Notice of Supplemental Information

AGENCY: Federal Transit Administration (FTA), DOT.

ACTION: Notice.

SUMMARY: This notice supplements the notice concerning FTA Fiscal Year 2006 Apportionments, Allocations and Program Information, dated as of December 20, 2005, as changed and corrected by the FTA Fiscal Year 2006 Apportionments and Allocations Changes and Corrections; Announcement of States Selected for Participation in Section 5310 Pilot Program, dated as of February 3, 2006.

FOR FURTHER INFORMATION CONTACT: David B. Horner, Esq., Chief Counsel, Office of the Chief Counsel, Federal Transit Administration, 400 Seventh Street, SW., Washington, DC 20590 or at (202) 366-4063 or by e-mail at David.Horner@fta.dot.gov.

SUPPLEMENTARY INFORMATION: Reference is made to the Appropriation for “Capital and Debt Service Grants to the National Railroad Passenger Corporation” set forth in Division A of title I of the Transportation, Treasury, Housing and Urban Development, the Judiciary, the District of Columbia, and Independent Agencies Appropriations Act of 2006 (“FY2006 Act”). Please be advised that pursuant to 49 U.S.C. 5334(a)(9), the Secretary of Transportation may include in an agreement or instrument entered into between the U.S. Department of Transportation and a recipient of funds under 49 U.S.C. 5301 et seq. (the “Federal Transit Law”) a covenant or term the Secretary considers necessary to carry out the Federal Transit Law or the FY2006 Act, including, without limitation, a covenant or term governing payment for the capital portions of rail trackage rights or the enforcement of payments required by the FY2006 Act.

Dated: Issued on the 6th day of February, 2006.
Sandra K. Bushue,
Deputy Administrator.

[FR Doc. 06-1225 Filed 2-9-06; 8:45 am]

BILLING CODE 4910-57-M